FEDERAL COMMUNICATIONS COMMISSION

47 CFR Part 22

[WT Docket Nos. 12-40 and 16-138; RM-11510, RM-11660; FCC 18-92]

Cellular Service, Including Changes in Licensing of Unserved Area

AGENCY: Federal Communications Commission.

ACTION: Final rule; announcement of effective date.

SUMMARY: In this document, the Federal Communications Commission (Commission) announces that the Office of Management and Budget (OMB) has approved, for a period of three years, the information collection requirements associated with the Commission's Third Report and Order, WT Docket Nos. 12-40 and 16-138, RM Nos. 11510 and 11660, FCC 18-92. This notification is consistent with the Third Report and Order, which stated that the Commission would publish a document in the Federal Register announcing OMB approval and the effective date of the requirements.

DATES: The amendment to 47 CFR 22.303, published at 83 FR 37760 (Aug. 2, 2018), is effective on January 2, 2019.

FOR FURTHER INFORMATION CONTACT: For additional information, contact Cathy Williams, Cathy.Williams@fcc.gov, (202) 418-2918.

SUPPLEMENTARY INFORMATION: This document announces that, on November 27, 2018, OMB approved the revised information collection requirements contained in the Commission's Third Report and Order, FCC 18-92, published at 83 FR 37760, Aug. 2, 2018. The OMB Control Number is 3060-0508. The Commission publishes this document as an announcement of the effective date of the requirements. If you have any comments on the burden estimates listed below, or how the Commission can improve the collections and reduce any burdens caused thereby, please contact Cathy Williams, Federal Communications Commission, Room 1-C823, 445 12th Street SW, Washington, DC 20554. Please include the OMB Control Number, 3060-0508, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on November 27, 2018, for the revised information collection requirements contained in the Commission's rule at 47 CFR 22.303. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0508.

The foregoing notice is required by the Paperwork Reduction Act of 1995, Public Law 104-13, October 1, 1995, and 44 U.S.C. 3507.

The total annual reporting burdens and costs for the respondents are as follows:

OMB Control Number: 3060-0508.

OMB Approval Date: November 27, 2018.

OMB Expiration Date: November 30, 2021.

Title: Parts 1 and 22 Reporting and Recordkeeping Requirements.

Form Number: Not applicable.

Respondents: Business or other for-profit entities, Individuals or households, and State, Local or Tribal Governments.

Number of Respondents and Responses: 15,465 respondents; 16,183 responses.

Frequency of Response: Recordkeeping requirement; On occasion, quarterly, and semi-annual reporting requirements. Third-party disclosure requirement.

Obligation to Respond: Required to obtain or retain benefits. The statutory authority for this collection is contained in 47 U.S.C. 154, 222, 303, 309 and 332.

Total Annual Burden: 2,606 hours.

Annual Cost Burden: $19,138,350.

Privacy Act Impact Assessment: Yes.

Nature and Extent of Confidentiality: There is no need for confidentiality with this collection of information. The information to be collected will be made available for public inspection. Applicants may request materials or information submitted to the Commission be given confidential treatment under 47 CFR 0.459 of the Commission's rules.

Needs and Uses: Part 22 contains the technical and legal requirements for radio stations operating in the Public Mobile Services. The information collected is used to determine, on a case-by-case basis, whether or not to grant licenses authorizing construction and operation of wireless telecommunications facilities to common carriers. Further, this information is used to develop statistics about the demand for various wireless licenses and/or the licensing process itself, and occasionally for rule enforcement purposes.

The Federal Communications Commission (Commission) received approval for a revision of OMB Control No. 3060-0508 from the Office of Management and Budget (OMB). The revised information collection reflects deletion of a rule applicable to all licensees and applicants governed by part 22 of the Commission's rules, as adopted by the Commission in a Third Report and Order on July 12, 2018 (WT Docket Nos. 12-40 and 16-138; RM Nos. 11510 and 11660; FCC 19-82). The Third Report and Order deleted certain part 22 rules that either imposed administrative and recordkeeping burdens that are outdated and no longer serve the public interest, or that are largely duplicative of later-adopted rules and are thus no longer necessary. Among the rule deletions and of relevance to this information collection, the Commission deleted rule § 22.303, resulting in discontinued information collection for that rule section.

Federal Communications Commission.
Marlene Dortch,
Secretary, Office of the Secretary.

[FR Doc. 2018-27841 Filed 12-21-18; 8:45 am]

BILLING CODE 6712-01-P